DEPARTMENT OF THE INTERIOR

National Park Service

[NPS-WASO-NAGPRA-NPS0038009; PPWOCRADN0-PCU00RP14.R50000]

Notice of Inventory Completion: Auburn University, Auburn, AL

AGENCY: National Park Service, Interior.

ACTION: Notice.

SUMMARY: In accordance with the Native American Graves Protection and Repatriation Act (NAGPRA), Auburn University has completed an inventory of human remains and associated funerary objects and has determined that there is a cultural affiliation between the human remains and associated funerary objects and Indian Tribes or Native Hawaiian organizations in this notice.

DATES: Repatriation of the human remains and associated funerary objects in this notice may occur on or after July 3, 2024.

ADDRESSES: Michael Walters, Auburn University, 7030 Haley Center, Auburn, AL 36849, telephone (334) 844-8300, email mcw0121@auburn.edu.

SUPPLEMENTARY INFORMATION: This notice is published as part of the National Park Service's administrative responsibilities under NAGPRA. The determinations in this notice are the sole responsibility of Auburn University, and additional information on the determinations in this notice, including the results of consultation, can be found in the inventory or related records. The National Park Service is not responsible for the determinations in this notice.

Abstract of Information Available

Based on the information available, human remains representing at least five individuals have been identified. The 6,067 associated funerary objects are 5,720 beads, two lots of beads, 16 ceramic sherds, one lot of ceramic sherds, eight lots of charcoal, one clay pipe, one potter's clay, 60 pieces of daub, three lots of fabric, three lots of faunal bone, one lot of fiber, six pieces of glass, 34 lots of lithics, 109 lots of metal items, 13 metal bracelets, eight metal broaches/buckles, five metal gorgets, one metal musket ball, seven metal thimbles, one cast-iron kettle, seven metal earrings, one iron ring, one lot of iron scissors, one lot of metal pins, one silver piece, two triangles, four peach pits, 10 lots of red pigment, seven lots of plant material, 20 seeds, two lots of seeds, one lot of shell fragments, three lots of soil samples, one lot of wood, two unidentified objects, and four lots of unidentified objects. The human remains and associated funerary objects were removed from Hickory Ground (1EE89x1) in Elmore County, AL, by Dr. John Cottier of Auburn University and Dr. Craig Sheldon of Auburn University at Montgomery in 1992 and 1994. Auburn University received the collection at an unknown date. Hickory Ground is culturally affiliated to Poarch Band of Creek Indians and The Muscogee (Creek) Nation. No known hazardous substances were used to treat the human remains or associated funerary objects.

Cultural Affiliation

Based on the information available and the results of consultation, cultural affiliation is clearly identified by the information available about the human remains and associated funerary objects described in this notice.

Determinations

Auburn University has determined that:

• The human remains described in this notice represent the physical remains of five individuals of Native American ancestry.

• The 6,067 objects described in this notice are reasonably believed to have been placed intentionally with or near individual human remains at the time of death or later as part of the death rite or ceremony.

• There is a reasonable connection between the human remains and associated funerary objects described in this notice and the Poarch Band of Creek Indians and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 3, 2024. If competing requests for repatriation are received, Auburn University must determine the most appropriate requestor prior to repatriation. Requests for joint repatriation of the human remains and associated funerary objects are considered a single request and not competing requests. Auburn University is responsible for sending a copy of this notice to the Indian Tribes and Native Hawaiian organizations identified in this notice.

Authority: Native American Graves Protection and Repatriation Act, 25 U.S.C. 3003, and the implementing regulations, 43 CFR 10.10.

Dated: May 22, 2024.
Melanie O'Brien,
Manager, National NAGPRA Program.

[FR Doc. 2024-12069 Filed 5-31-24; 8:45 am]

BILLING CODE 4312-52-P